DEPARTMENT OF ENERGY

Federal Energy Regulatory Commission

[Docket No. ER02-1326-002, et al.]

PJM Interconnection, L.L.C., et al.; Electric Rate and Corporate Regulation Filings

August 15, 2002.

The following filings have been made with the Commission. The filings are listed in ascending order within each docket classification.

1. PJM Interconnection, L.L.C.

[Docket No. ER02-1326-002]

Take notice that on August 12, 2002, consistent with the Commission's May 31, 2002 “Order Accepting Tariff Sheets As Modified” 99 FERC ¶ 61,227, PJM Interconnection, L.L.C. (PJM) submitted an amended compliance filing in this docket revising the PJM Open Access Tariff and the Amended And Restated Operating Agreement of PJM Interconnection, L.L.C. to incorporate certain changes to its Economic Load Response Program.

Consistent with the May 31 Order, PJM requests an effective date of June 1, 2002 for the revisions. Copies of this filing have been served on all persons on the service list in Docket No. ER02-1326-000, all PJM members, and the state electric utility commissions in the PJM region.

Comment Date: September 3, 2002.

2. Illinois Power Company

[Docket No. ER02-1400-002]

Take notice that on August 12, 2002, Illinois Power Company (Illinois Power), 500 South 27th Street, Decatur, Illinois 65251-2200, filed a First Revised Interconnection and Operating Agreement (First Revised IOA). The First Revised IOA is subject to Illinois Power's Open Access Transmission Tariff. Illinois Power requests an effective date of March 8, 2002 for the First Revised IOA.

Comment Date: September 3, 2002.

3. American Electric Power Service Corporation

[Docket No. ER02-1817-002]

Take notice that on August 12, 2002, American Electric Power Service Corporation (AEP) tendered for filing with the Federal Energy Regulatory Commission (Commission) on behalf of Ohio Power Company, an operating company of the American Electric Power System (collectively AEP) amendments to an Interconnection and Operation Agreement between AEP and Lima Energy Company (LEC). The amendments are filed in compliance with the Commission's Order issued on July 12, 2002 in the above-captioned proceeding.

Comment Date: September 3, 2002.

4. Kentucky Utilities Company

[Docket No. ER02-2269-001]

Take notice that on August 9, 2002, Kentucky Utilities (KU) tendered for filing (1) a renumbered contract between KU and the City of Bardwell Kentucky dealing with the treatment of power received from the Southeastern Power Administration (SEPA) and (2) a fully executed amendment to the SEPA Contract. The SEPA Contract had been incorrectly attached to a power sales agreement which KU requested to be removed in Docket No. ER02-2269-000. The renumbered SEPA Contract is designated Rate Schedule FERC No. 307.

Comment Date: August 30, 2002.

5. Kentucky Utilities Company

[Docket No. ER02-2270-001]

Take notice that on August 9, 2002, Kentucky Utilities (KU) tendered for filing with the Federal Energy Regulatory Commission (Commission) a renumbered contract between KU and the City of Barbourville Kentucky dealing with the treatment of power received from the Southeastern Power Administration (SEPA) and a fully executed amendment to the SEPA Contract. The SEPA Contract had been incorrectly attached to a power sales agreement which KU requested to be removed in Docket No. ER02-2270-000. The renumbered SEPA Contract is designated Rate Schedule FERC No. 304.

Comment Date: August 30, 2002.

6. Kentucky Utilities Company

[Docket No. ER02-2271-001]

Take notice that on August 9, 2002, Kentucky Utilities (KU) tendered for filing (1) a renumbered contract between KU and the City of Bardstown Kentucky dealing with the treatment of power received from the Southeastern Power Administration (SEPA) and (2) a fully executed amendment to the SEPA Contract. The SEPA Contract had been incorrectly attached to a power sales agreement which KU requested to be removed in Docket No. ER02-2271-000. The renumbered SEPA Contract is designated Rate Schedule FERC No. 302.

Comment Date: August 30, 2002.

7. Kentucky Utilities Company

[Docket No. ER02-2273-001]

Take notice that on August 9, 2002, Kentucky Utilities Company (KU) tendered for filing with the Federal Energy Regulatory Commission (Commission) a renumbered contract between KU and the City of Frankfort Kentucky dealing with the treatment of power received from the Southeastern Power Administration (SEPA) and a fully executed amendment to the SEPA Contract. The SEPA Contract had been incorrectly attached to a power sales agreement which KU requested to be removed in Docket No. ER02-2273-000. The renumbered SEPA Contract is designated Rate Schedule FERC No. 311.

Comment Date: August 30, 2002.

8. Kentucky Utilities Company

[Docket No. ER02-2274-001]

Take notice that on August 9, 2002, Kentucky Utilities Company (KU) tendered for filing with the Federal Energy Regulatory Commission (Commission) a renumbered contract between KU and the City of Benham Kentucky dealing with the treatment of power received from the Southeastern Power Administration (SEPA) and a fully executed amendment to the SEPA Contract. The SEPA Contract had been incorrectly attached to a power sales agreement which KU requested to be removed in Docket No. ER02-2274-000. The renumbered SEPA Contract is designated Rate Schedule FERC No. 308.

Comment Date: August 30, 2002.

9. Kentucky Utilities Company

[Docket No. ER02-2275-001]

Take notice that on August 9, 2002, Kentucky Utilities Company (KU) tendered for filing with the Federal Energy Regulatory Commission (Commission) a renumbered contract between KU and the City of Corbin Kentucky dealing with the treatment of power received from the Southeastern Power Administration (SEPA) and a fully executed amendment to the SEPA Contract. The SEPA Contract had been incorrectly attached to a power sales agreement which KU requested to be removed in Docket No. ER02-2275-000. The renumbered SEPA Contract is designated Rate Schedule FERC No. 309.

Comment Date: August 30, 2002.

10. Kentucky Utilities Company

[Docket No. ER02-2276-001]

Take notice that on August 9, 2002, Kentucky Utilities Company(KU) tendered for filing with the Federal Energy Regulatory Commission (Commission) a renumbered contract between KU and the City of Falmouth Kentucky dealing with the treatment of power received from the Southeastern Power Administration (SEPA) and a fully executed amendment to the SEPA Contract. The SEPA Contract had been incorrectly attached to a power sales agreement which KU requested to be removed in Docket No. ER02-2276-000. The renumbered SEPA Contract is designated Rate Schedule FERC No. 310.

Comment Date: August 30, 2002.

11. Kentucky Utilities Company

[Docket Nos. ER02-2280-001 and ER02-2281-001

Take notice that on August 9, 2002, Kentucky Utilities Company (KU) tendered for filing with the Federal Energy Regulatory Commission (Commission) a renumbered contract between KU and the City of Providence Kentucky dealing with the treatment of power received from the Southeastern Power Administration (SEPA) and a fully executed amendment to the SEPA Contract. The SEPA Contract had been incorrectly attached to a power sales agreement which KU requested to be removed in Docket Nos. ER02-2280-000 and ER02-2281-000. The renumbered SEPA Contract is designated Rate Schedule FERC No. 305.

Comment Date: August 30, 2002.

12. Kentucky Utilities Company

[Docket No. ER02-2283-001]

Take notice that on August 9, 2002, Kentucky Utilities (KU) tendered for filing with the Federal Energy Regulatory Commission (Commission) a renumbered contract between KU and the City of Owensboro Kentucky dealing with the treatment of power received from the Southeastern Power Administration (SEPA) and a fully executed amendment to the SEPA Contract. The SEPA Contract had been incorrectly attached to a power sales agreement which KU requested to be removed in Docket No. ER02-2283-000. The renumbered SEPA Contract is designated Rate Schedule FERC No 300.

Comment Date: August 30, 2002.

13. Kentucky Utilities Company

[Docket No. ER02-2284-001]

Take notice that on August 9, 2002, Kentucky Utilities Company(KU) tendered for filing with the Federal Energy Regulatory Commission (Commission) a renumbered contract between KU and the City of Paris Kentucky dealing with the treatment of power received from the Southeastern Power Administration (SEPA) and a fully executed amendment to the SEPA Contract. The SEPA Contract had been incorrectly attached to a power sales agreement which KU requested to be removed in Docket No. ER02-2284-000. The renumbered SEPA Contract is designated Rate Schedule FERC No. 301.

Comment Date: August 30, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Linwood A. Watson, Jr.,
Deputy Secretary.

[FR Doc. 02-21382 Filed 8-21-02; 8:45 am]

BILLING CODE 6717-01-P